DEPARTMENT OF JUSTICE

Establishment of the Commission for the Review of FBI Security Programs

AGENCY: Depart of Justice.

ACTION: Notice.

SUMMARY: This notice is published in accordance with the provisions of the Federal Advisory Committee Act and advises the public that the Attorney General of the United States has established the Commission for the Review of FBI Security Programs. The Commission will provide advice and recommendations on policy and procedural issues as they relate to the security programs of the Federal Bureau of Investigation.

ADDRESSES: The Commission meetings will be held at the U.S. Department of Justice, located at 950 Pennsylvania Avenue NW., Washington DC 20530.

FOR FURTHER INFORMATION CONTACT: George Ellard, Deputy Chief Investigative Counsel, (202) 616-1327.

SUPPLEMENTARY INFORMATION: In accordance with the Federal Advisory Committee Act, 5 U.S.C. App., the Attorney General of the United States has established the Commission for the Review of FBI Security Programs. The Commission will provide advice and recommendations on policy and procedural issues as they relate to the security programs of the Federal Bureau of Investigation. The Attorney General has determined that establishment of the Commission is in the public interest.

Richard M. Rogers,
Deputy Chief Investigative Counsel, Commission for the Review of FBI Security Programs, Department of Justice.

[FR Doc. 01-21682 Filed 8-27-01; 8:45 am]

BILLING CODE 4410-23-M